DEPARTMENT OF THE INTERIOR

Bureau of Land Management

[LLCAD06800.L17110000.FM0000]

Notice of Availability of a Draft Environmental Impact Statement for the Proposed Land Exchange Between the Bureau of Land Management and the Agua Caliente Band of Cahuilla Indians, California

AGENCY: Bureau of Land Management, Interior.

ACTION: Notice.

SUMMARY: In accordance with the National Environmental Policy Act of 1969, as amended, the Bureau of Land Management (BLM), Palm Springs-South Coast Field Office, has prepared a Draft Environmental Impact Statement (EIS) for the Proposed Land Exchange between the BLM and the Agua Caliente Band of Cahuilla Indians (Tribe) and by this notice is announcing the opening of the comment period.

DATES: To ensure comments will be considered, the BLM must receive written comments on the Draft EIS for the Proposed Land Exchange between the BLM and the Tribe within 90 days following the date the Environmental Protection Agency publishes its Notice of Availability in the Federal Register. The BLM will announce future meetings or hearings and any other public involvement activities at least 15 days in advance through public notices, media releases, and/or mailings.

ADDRESSES: You may submit comments related to the Draft EIS for the Proposed Land Exchange between the BLM and the Tribe by any of the following methods:

• Email: AguaCalienteExchange@blm.gov.

• Fax: 760-833-7199.

• Mail: National Monument Manager, BLM Palm Springs-South Coast Field Office, 1201 Bird Center Dr., Palm Springs, CA 92262.

Copies of the Draft EIS for the Proposed Land Exchange between the BLM and the Tribe are available in the Palm Springs-South Coast Field Office at the above address, or on the Internet at http://www.blm.gov/ca/st/en/fo/palmsprings.html.

FOR FURTHER INFORMATION CONTACT: Jim Foote, National Monument Manager, telephone 760-833-7136; address BLM Palm Springs-South Coast Field Office, 1201 Bird Center Dr., Palm Springs, CA 92262; email jfoote@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM proposes to exchange certain Federal lands for properties owned by the Agua Caliente Band of Cahuilla Indians. The selected Federal lands and offered tribal lands occur within the Santa Rosa and San Jacinto Mountains National Monument. The exchange would transfer all or portions of the following described Federal lands to the Agua Caliente Band of Cahuilla Indians:

San Bernardino and Base Meridian, California

T.4S. R.4E.

Section 16, all;

Section 17, W1/2NW1/4NE1/4, W1/2E1/2NW1/4NE1/4;

Section 18, W1/2NE1/4, N1/2NE1/4SW1/4, S1/2 of lot 1, N1/2 of lot 2;

Section 36, lots 1-4, W1/2NE1/4, W1/2SE1/4, E1/2SW1/4, SE1/4NW1/4, N1/2SW1/4SW1/4, E1/2NW1/4SW1/4, SW1/4NW1/4SW1/4, S1/2NW1/4NW1/4SW1/4.

T.5S. R.4E.

Section 5, lots 1-4, S1/2NE1/4, S1/2NW1/4, S1/2;

Sections 16, 21, 27, 29, 32, and 36, all.

The described Federal lands were withdrawn from all forms of appropriation under the public land laws and mining laws under Public Law 106-351 dated October 24, 2000. However, Section 5(i) of Public law 106-351 specifically allows the exchange of Federal lands within the monument in certain circumstances.

The United States would acquire all or portions of the following described land from the Agua Caliente Band of Cahuilla Indians:

San Bernardino and Base Meridian, California

T.5S. R. 5E.

Section 7, all;

Section 19, all;

Section 20, W1/2W1/2.

The Draft EIS describes and analyzes alternatives based on varying amounts of Federal lands to be exchanged for tribal lands, as well as the no action alternative. The BLM's preferred alternative eliminates certain Federal lands from consideration that, if exchanged, would be contrary to the purpose of the exchange, which is to promote effective and efficient management of the Federal and tribal lands by reducing the extent of “checkerboard” landownership, thereby providing the BLM and the Tribe with more logical and consistent land management responsibility in the Monument.

Important issues identified by the public during scoping address purpose and need for the proposed land exchange; conformance with statutes, regulations, policies, and land use plans; development of alternatives and mitigation measures; public access to trails; protection of threatened and endangered species; and potential development of exchanged lands. Responses to specific questions related to these issues are provided in the Draft EIS. Lands acquired by the BLM through the land exchange would be managed in accordance with applicable statutes and regulations, as well as the California Desert Conservation Area Plan, as amended, and the Santa Rosa and San Jacinto Mountains National Monument Management Plan. Lands acquired by the Tribe would be managed in accordance with its Land Use Ordinance, Indian Canyons Master Plan, and Tribal Habitat Conservation Plan.

Public participation has been sought through a comment period provided for an Environmental Assessment that preceded preparation of the Draft EIS, and during the scoping process to identify issues to be addressed in the Draft EIS for the proposed land exchange. Please note that public comments and information submitted including names, street addresses, and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10.

John R. Kalish,
Field Manager, Palm Springs-South Coast Field Office.

[FR Doc. 2014-30324 Filed 12-24-14; 8:45 am]

BILLING CODE 4310-40-P